LIBRARY OF CONGRESS

U.S. Copyright Office

37 CFR Part 201

[Docket No. 2020-10]

Modernizing Recordation of Notices of Termination

AGENCY: U.S. Copyright Office, Library of Congress.

ACTION: Notice of proposed rulemaking; notification of inquiry; extension of comment period.

SUMMARY: The U.S. Copyright Office is extending the deadline for the submission of written comments in response to its June 3, 2020, notice of proposed rulemaking and notification of inquiry regarding recordation of notices of termination.

DATES: The comment period for the proposed rule published June 3, 2020, at 85 FR 34150, is extended. Written comments must be received no later than 11:59 p.m. Eastern Time on August 5, 2020.

ADDRESSES: For reasons of government efficiency, the Copyright Office is using the regulations.gov system for the submission and posting of public comments in this proceeding. All comments are therefore to be submitted electronically through regulations.gov. Specific instructions for submitting comments are available on the Copyright Office website at https://www.copyright.gov/rulemaking/termination-modernization/. If electronic submission of comments is not feasible due to lack of access to a computer and/or the internet, please contact the Office using the contact information below for special instructions.

FOR FURTHER INFORMATION CONTACT: Regan A. Smith, General Counsel and Associate Register of Copyrights, regans@copyright.gov; Kevin R. Amer, Deputy General Counsel, kamer@copyright.gov; or Nicholas R. Bartelt, Attorney-Advisor, niba@copyright.gov. They can be reached by telephone at (202) 707-8350.

SUPPLEMENTARY INFORMATION: On June 3, 2020, the U.S. Copyright Office issued a notice of proposed rulemaking and notification of inquiry (the “NPRM”) regarding recordation of notices of termination.¹ The NPRM requested public comments on proposed updates to the regulatory framework for notices of termination before features permitting electronic submission of notices are developed for the online recordation system. The Office also solicited comments on two additional subjects: (1) Whether the Office should develop an optional form or template to assist remitters in creating and serving notices of termination; and (2) whether the Office should consider regulatory updates to address concerns about third-party agents failing to properly serve and file notices on behalf of authors.

¹ 85 FR 34150 (June 3, 2020).

To ensure that members of the public have sufficient time to comment, and to ensure that the Office has the benefit of a complete record, the Office is extending the deadline for submission of comments to 11:59 p.m. Eastern Time on August 5, 2020.

Dated: June 26, 2020.
Regan A. Smith,
General Counsel and Associate Register of Copyrights.

[FR Doc. 2020-14208 Filed 6-29-20; 8:45 am]

BILLING CODE 1410-30-P